DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration will publish periodic summaries of proposed projects. To request more information on the proposed projects or to obtain a copy of the information collection plans, call the SAMHSA Reports Clearance Officer on (301) 443-7978.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: State Prevention Needs Assessments: Alcohol and Other Drugs, Cohort V (New)—SAMHSA's Center for Substance Abuse Prevention (CSAP) has awarded contracts to several States (Cohort V) to collect data to assess the nature and extent of substance abuse prevention services needs. The data collection by these States will bring to 30 (Cohorts I-V) the number of States that have implemented a family of prevention needs assessment studies, and will constitute the third cohort to apply the core set of measures, instruments, and methodologies developed and standardized under prior State needs assessment State contracts.

Data will be collected in school surveys and community resource assessments (CRA). The information collected in this project will be combined with existing information from other sources; States may use multiple approaches to assess statewide and substate distributions of risk and protective factors for substance use, of prevention resources, and of prevention services needs. These needs assessment studies will permit cross-State comparison of risk and protection variables to assist State services planning and allocation of State Block Grant funds, and to assist Federal response to the Government Performance and Results Act (GPRA). The estimated annualized burden for the three-year project is shown below.

Respondents | Number of respondents | Responses per respondent | Average burden per response (hours) | Annualized burden hours
Students | 137,500 | 1 | 0.75 | 103,125
Program Providers | 1,410 | 1 | 1.00 | 1,410
Total | 138,910 |  |  | 104,535
3-year Average | 46,303 |  |  | 34,845

Send comments to Nancy Pearce, SAMHSA Reports Clearance Officer, Room 16-105, Parklawn Building, 5600 Fishers Lane, Rockville, MD 20857. Written comments should be received within 60 days of this notice.

Dated: January 24, 2000.
Richard Kopanda,
Executive Officer, SAMHSA.

[FR Doc. 00-2213 Filed 2-1-00; 8:45 am]

BILLING CODE 4162-20-P